OFFICE OF SPECIAL COUNSEL

Appointment of Member to Agency Performance Review Board

AGENCY: Office of Special Counsel.

ACTION: Notice.

SUMMARY: This notice announces the appointment of the following individual to serve as a new member of the Performance Review Board previously established by the OSC pursuant to 5 U.S.C. 4314(c)(2): Sharlyn A. Grigsby, Director, Office of Civil Service Personnel Management, Department of State.

Authority: 5 U.S.C. Sec. 4314 (c) (4).

FOR FURTHER INFORMATION CONTACT: M. Marie Glover, Director of Personnel, U.S. Office of Special Counsel, 1730 M Street, NW., Washington, DC 20036-4505, telephone (202) 653-8964.

Dated: October 3, 2001.
Elaine Kaplan,
Special Counsel.

[FR Doc. 01-25460 Filed 10-10-01; 8:45 am]

BILLING CODE 7405-01-P